DEPARTMENT OF VETERANS AFFAIRS

Advisory Committee on Disability Compensation; Notice of Meeting

The Department of Veterans Affairs (VA) gives notice under Public Law 92-463 (Federal Advisory Committee Act) that the Advisory Committee on Disability Compensation will meet on November 16-17, 2009, in the Carlton Ballroom at the St. Regis, 923 16th and K Streets, NW., Washington, DC, from 8:30 a.m. to 5 p.m. each day. The meeting is open to the public.

The purpose of the Committee is to advise the Secretary of Veterans Affairs on the maintenance and periodic readjustment of the VA Schedule for Rating Disabilities. The Committee is to assemble and review relevant information relating to the nature and character of disabilities arising from service in the Armed Forces, provide an ongoing assessment of the effectiveness of the rating schedule and give advice on the most appropriate means of responding to the needs of veterans relating to disability compensation.

On November 16, the Committee will receive briefings on transition policy and care coordination and the cost of providing medical and disability care to veterans from Iraq and Afghanistan. On November 17, the Committee will receive updates on Veterans Benefits Administration automation of records initiatives and an overview of organization and involvement with psychological health and traumatic brain injury.

On the afternoon of November 17, time will be allocated for receiving public comments. Public comments will be limited to three minutes each. Individuals wishing to make oral statements before the Committee will be accommodated on a first-come, first-served basis. Individuals who speak are invited to submit 1-2 page summaries of their comments at the time of the meeting for inclusion in the official meeting record.

The public may submit written statements for the Committee's review to Ms. Ersie Farber, Designated Federal Officer, Department of Veterans Affairs, Veterans Benefits Administration (211A), 810 Vermont Avenue, NW., Washington, DC 20420 or to Ersie.farber@va.gov. Any member of the public wishing to attend the meeting or seeking additional information should contact Ms. Farber at (202) 461-9728.

Dated: October 14, 2009.
By Direction of the Secretary.
Vivian Drake,
Acting Committee Management Officer.

[FR Doc. E9-25270 Filed 10-20-09; 8:45 am]

BILLING CODE 8320-01-P